NATIONAL SCIENCE FOUNDATION

Notice of Permit Applications Received Under the Antarctic Conservation Act of 1978

AGENCY: National Science Foundation.

ACTION: Notice of Permit Applications Received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by March 6, 2019. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant: Permit Application: 2019-017. Robert Sanders, Department of Biology, Temple University, 1900 N 12th Street, Philadelphia, PA 19122.

Activity for Which Permit is Requested: Introduce Non-indigenous Species into Antarctica. The applicant would use cultures of the bacteria as a food source during a study of Antarctic mixotrophic phytoplankton aboard the research vessel Laurence M. Gould. The bacterial culture is a non-pathogenic marine species (Photobacterium angustum) obtained from American Type Culture Collection. This bacterial species would be used as it has been shown to have the ability to incorporate a thymidine substitute that can be used to identify which phytoplankton have ingested the bacteria. The feeding experiments would be conducted in sealed plastic containers kept isolated from the environment. At the conclusion of the experiments, any sample or culture remaining, including filtered seawater, would be destroyed by autoclaving on the ship. Supplies and equipment would be sterilized at the end of each experiment by autoclaving or using ethanol. The applicant and permit agents are experienced in using sterile techniques and in maintaining safe practices with microbial cultures.

Location: West Antarctic Peninsula region.

Dates of Permitted Activities: April 10-May 31, 2019.

2. Applicant: Permit Application: 2019-018. Daniel P. Zitterbart, Woods Hole Oceanographic Institution, 266 Woods Hole Road, Woods Hole, MA 02543-1050.

Activity for Which Permit is Requested: Take. The permit applicant proposes to place short-term deployment tags on humpback whales (Megaptera novaeangliae) for the purposes of studying their foraging ecology. The applicant would deploy digital acoustic recording tags (DTAGs) onto humpback whales to record the three-dimensional movement of the animals, and the presence of feeding lunges. DTAGs contain a 3-axis accelerometer and magnetometer that record the pitch, yaw, and heading of the whale at a high sampling rate (> 50 Hz), as well as a pressure sensor that records the depth of the animal. A FastLoc® (Wildtrack Telemetry Systems Ltd) GPS tag will also be attached to the DTAG, allowing the position of the whale to be recorded throughout the deployment. To deploy the tag, a zodiac will be used to approach the whale, with the tag lowered onto the back of the whale using a carbon-fibre pole. Effort will be made to tag animals that are determined to be in transit or resting, and not currently feeding. The tags would be released from the whales after several hours and would be retrieved by the researchers. The applicant proposes to tag up to five adult or sub-adult humpack whales during the permit period (no calves would be tagged). Up to 70 additional whales, all ages, would potentially be approached and disturbed during the tagging efforts. The applicant and agents would also conduct water and oceanographic sampling, as well as deploy an echosounder and hydrophone, in order to study the availability of prey and oceanographic conditions during whale foraging. The study would be conducted during an expedition aboard a tour vessel operated by Polar Latitudes, Inc.

Location: West Antarctic Peninsula region.

Dates of Permitted Activities: March 1-20, 2019.

Suzanne H. Plimpton,
Reports Clearance Officer, National Science Foundation.

[FR Doc. 2019-00879 Filed 2-1-19; 8:45 am]

BILLING CODE 7555-01-P